DEPARTMENT OF TRANSPORTATION

Federal Aviation Administration

14 CFR Part 39

[Docket No. 2001-NM-342-AD; Amendment 39-13312; AD 2003-19-09]

RIN 2120-AA64

Airworthiness Directives; Boeing Model 767 Series Airplanes

AGENCY: Federal Aviation Administration, DOT.

ACTION: Final rule.

SUMMARY: This amendment adopts a new airworthiness directive (AD), applicable to all Boeing Model 767 series airplanes, that requires repetitive inspections and tests for discrepancies of the drainage system of the canted pressure deck located in the wheel wells of the main landing gear (MLG) of the left and right wings, and corrective actions if necessary. This action is necessary to prevent ice accumulation on the lateral flight control cables and/or components due to water entering the wheel well of the MLG and freezing, which could restrict or jam control cable movement, resulting in loss of controllability of the airplane. This action is intended to address the identified unsafe condition.

DATES: Effective October 27, 2003.

The incorporation by reference of certain publications listed in the regulations is approved by the Director of the Federal Register as of October 27, 2003.

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) to include an airworthiness directive (AD) that is applicable to all Boeing Model 767 series airplanes was published in the Federal Register on April 24, 2003 (68 FR 20087). That action proposed to require repetitive inspections and tests for discrepancies of the drainage system of the canted pressure deck located in the wheel wells of the main landing gear (MLG) of the left and right wings, and corrective actions if necessary.

Comments

Interested persons have been afforded an opportunity to participate in the making of this amendment. Due consideration has been given to the comments received.

Request To Withdraw the Proposed AD

One commenter requests that, rather than issue an AD to require the inspections proposed in the Notice of Proposed Rulemaking (NPRM), the inspections be incorporated into the Maintenance Planning Document (MPD). The commenter states that since certain of the proposed inspections (the Phase 2 inspection) are already specified as tasks in the MPD, it is unnecessary to require them by AD action. Additionally, the commenter points out the amount of work and time necessary to gain access (removal of several rows of seats, floor panels, and partitions) for the existing MPD inspections would also be required by the inspections proposed in the NPRM.

The FAA does not agree that the NPRM should be withdrawn. The repetitive intervals in Section 8 of the MPD are a baseline inspection program and are written in terms of “check” intervals. The check intervals may be extended by an FAA-approved maintenance program revision. Some operators have had “C” checks extended from 18 to 24 months. For some operators, Section 8 of the MPD may be different than the manufacturer's baseline program. We have determined that the unsafe condition addressed in this AD requires inspections at the intervals specified in the NPRM. To ensure those specific inspection intervals are adhered to, an AD must be issued.

Request To Revise the Unsafe Condition

One commenter, the manufacturer, requests that the unsafe condition be revised to clarify that the AD actions also are required to prevent ice accumulation on components. (The NPRM specified prevention of ice on the lateral flight control cables.) The commenter also requests that the unsafe condition be revised to specify that the unsafe condition “could result in ‘degraded’ or loss of controllability of the airplane.”

The FAA agrees that addition of the words “and/or components” clarifies the unsafe condition, and has revised the final rule to reflect this change. We do not agree that the word “degraded” should be added to the unsafe condition statement. The phrase “loss of controllability of the airplane” adequately describes the end-level effect on the airplane. “Degraded controllability” would not necessarily result in loss of control of the airplane, unless there were other contributing factors. We do not list all possible conditions that could result from ice accumulation, only the end-level effect. No change to the final rule is necessary in this regard.

Requests To Revise Compliance Times

One commenter requests that the compliance times stated in paragraphs (a) and (b) of the NPRM be expressed in terms of “C” checks rather than months. The commenter explains that its “C” checks are every 24 months so that inspections would occur at 24 months, 48 months, and 72 months, respectively. The commenter states that the compliance time intervals specified in the NPRM of 18, 36, and 54 months would require its fleet to have special maintenance visits scheduled in addition to the normally scheduled “C” checks. The commenter points out that the cost of special visits and downtime would be considerable.

The FAA does not agree with the commenter's request. The commenter did not provide any justification to show that increasing the compliance time intervals would provide an acceptable level of safety. However, under the provisions of paragraph (e) of the final rule, we may approve requests for adjustments to the compliance times if data are submitted to substantiate that such an adjustment would provide an acceptable level of safety. No change to the final rule is necessary in this regard.

Another commenter requests that, for airplanes specified in Work Package 2, the repetitive inspection compliance times be extended from intervals not to exceed 36 months as proposed in the NPRM, to intervals not to exceed 72 months. The commenter explains that the actions specified in Work Package 2 will require significant cabin disassembly. Therefore, the commenter would like to perform the proposed inspections at its “4C” (72 months) heavy maintenance visits.

The FAA does not agree that the repetitive inspection interval should be extended. The commenter provided no technical justification to show that a 72-month interval would provide an acceptable level of safety. However, under the provisions of paragraph (e) of the final rule, we may approve requests for adjustments to the compliance time if data are submitted to substantiate that such an adjustment would provide an acceptable level of safety. No change to the final rule is necessary in this regard.

Request To Revise the Threshold for Work Package 2

One commenter points out that new airplanes already have the improved drain systems. Additionally, the commenter notes that it is unlikely that the area inside the canted pressure deck has been contaminated with debris on new airplanes, since that area should not have been disturbed from years of service or by heavy maintenance activities. The commenter objects to the amount of work and time necessary to gain access (removal of several rows of seats, floor panels, and partitions) to perform inspections that the commenter does not consider necessary.

The FAA does not agree. As explained in the preamble of the NPRM, we have received reports of ice accumulation around control cables on Boeing Model 767 series airplanes. We point out that we have also received similar reports on Boeing Model 747 series airplanes, one of which was a report of an event that occurred on the airplane approximately three years after the date of manufacture. Therefore, we consider that the service history demonstrates that new airplanes are not exempt from water accumulation in the canted pressure deck. No change to the final rule is necessary in this regard.

Request To Revise Work Package Number

Two commenters request that bullet number three under the paragraph titled “Difference Between This Proposed AD and Service Bulletins” be revised to read, “For Work Package 3,” instead of, “For Work Package 1” as stated in the NPRM.

The FAA acknowledges that a typographical error occurred in that paragraph and that bullet number three should read, “For Work Package 3.” Since it is clear that our intent was to specify that bullet number three read, “For Work Package 3,” and because the “Difference Between This Proposed AD and Service Bulletins” paragraph does not reappear in this final rule, no change to the final rule is necessary in this regard.

Editorial Clarification

The FAA has revised certain wording regarding the compliance times of the repetitive inspection requirements specified in paragraphs (a), (b), and (d) of this rule. Instead of specifying that the repetitive inspections be repeated “at least every,” as stated in paragraphs (a), (b), and (d) of the NPRM, this final rule specifies that the inspections be repeated “at intervals not to exceed.”

Conclusion

After careful review of the available data, including the comments noted above, the FAA has determined that air safety and the public interest require the adoption of the rule with the change previously described. The FAA has determined that this change will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 814 airplanes of the affected design in the worldwide fleet. The FAA estimates that 345 airplanes of U.S. registry will be affected by this AD, that it will take approximately 1 work hour per airplane to accomplish the required inspection/test of the drainage system specified in Work Package 1 of the service bulletins, and that the average labor rate is $65 per work hour. Based on these figures, the cost impact of the AD on U.S. operators is estimated to be $22,425, or $65 per airplane.

It will take approximately 4 work hours per airplane to accomplish the required inspection/cleaning specified in Work Package 2 of the service bulletins, at an average labor rate of $65 per work hour. Based on these figures, the cost impact of the inspection/cleaning required by this AD on U.S. operators is estimated to be $89,700, or $260 per airplane, per cycle.

It will take approximately 2 work hours per airplane to accomplish the required inspection specified in Work Package 3 of the service bulletins, at an average labor rate of $65 per work hour. Based on these figures, the cost impact of the inspection required by this AD on U.S. operators is estimated to be $44,850, or $130 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-19-09 Boeing: Amendment 39-13312. Docket 2001-NM-342-AD.

Applicability: All Model 767 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent ice accumulation on the lateral flight control cables and/or components due to water entering the wheel well of the main landing gear and freezing, which could restrict or jam control cable movement, resulting in loss of controllability of the airplane; accomplish the following:

Repetitive Inspections/Tests of the Drainage System/Corrective Actions

(a) At the later of the times specified in paragraphs (a)(1) and (a)(2) of this AD: Do a general visual inspection of the external drains, reducer, and drain lines for discrepancies (including damage, holes, signs of frozen water, and signs of blockage), per Work Package 1 of the Work Instructions of Boeing Alert Service Bulletin 767-51A0023 (for Model 767-200, -300, and -300F series airplanes), or Boeing Alert Service Bulletin 767-51A0024 (for Model 767-400ER series airplanes), both dated September 27, 2001; as applicable. Repeat the test after that at intervals not to exceed 18 months.

(1) Within 18 months since the date of issuance of the original Airworthiness Certificate or the date of issuance of the Export Certificate of Airworthiness, whichever occurs first.

(2) Within 18 months after the effective date of this AD.

(b) At the later of the times specified in paragraphs (b)(1) and (b)(2) of this AD: Clean the cavity for the canted pressure deck and do a general visual inspection of the drainage system for discrepancies per Work Package 2 of the Work Instructions of Boeing Alert Service Bulletin 767-51A0023 (for Model 767-200, -300, and -300F series airplanes), or Boeing Alert Service Bulletin 767-51A0024 (for Model 767-400ER series airplanes), both dated September 27, 2001; as applicable. Repeat the cleaning and inspection after that at intervals not to exceed 36 months.

(1) Within 36 months since the date of issuance of the original Airworthiness Certificate or the date of issuance of the Export Certificate of Airworthiness, whichever occurs first.

(2) Within 36 months after the effective date of this AD.

(c) If any discrepancy is found during any inspection or test required by paragraphs (a) and (b) of this AD, before further flight, repair per the Work Instructions of Boeing Alert Service Bulletin 767-51A0023 (for Model 767-200, -300, and -300F series airplanes), or Boeing Alert Service Bulletin 767-51A0024 (for Model 767-400ER series airplanes), both dated September 27, 2001; as applicable.

Repetitive Inspections of the Canted Pressure Deck/Corrective Action

(d) At the later of the times specified in paragraphs (d)(1) and (d)(2) of this AD: Do a general visual inspection of the canted pressure deck for discrepancies (including loose or missing fasteners; loose, missing, or cracked sealant; and leak paths), per Work Package 3 of the Work Instructions of Boeing Alert Service Bulletin 767-51A0023 (for Model 767-200, -300, and -300F series airplanes), or Boeing Alert Service Bulletin 767-51A0024 (for Model 767-400ER series airplanes), both dated September 27, 2001; as applicable. If any discrepancy is found, before further flight, repair (including replacing any loose or missing fastener or loose, missing, or cracked sealant; and repairing any leak found) per the applicable service bulletin. Repeat the inspection after that at intervals not to exceed 54 months.

(1) Within 54 months since the date of issuance of the original Airworthiness Certificate or the date of issuance of the Export Certificate of Airworthiness, whichever occurs first.

(2) Within 54 months after the effective date of this AD.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(e) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 3: Information concerning the existence of approved alternative methods of compliance with this AD, if any, may be obtained from the Seattle ACO.

Special Flight Permit

(f) Special flight permits may be issued in accordance with sections 21.197 and 21.199 of the Federal Aviation Regulations (14 CFR 21.197 and 21.199) to operate the airplane to a location where the requirements of this AD can be accomplished.

Incorporation by Reference

(g) The actions shall be done in accordance with Boeing Alert Service Bulletin 767-51A0023, dated September 27, 2001; or Boeing Alert Service Bulletin 767-51A0024, dated September 27, 2001; as applicable. This incorporation by reference was approved by the Director of the Federal Register in accordance with 5 U.S.C. 552(a) and 1 CFR part 51. Copies may be obtained from Boeing Commercial Airplane Group, P.O. Box 3707, Seattle, Washington 98124-2207. Copies may be inspected at the FAA, Transport Airplane Directorate, 1601 Lind Avenue SW, Renton, Washington; or at the Office of the Federal Register, 800 North Capitol Street, NW., suite 700, Washington, DC.

Effective Date

(h) This amendment becomes effective on October 27, 2003.

Issued in Renton, Washington, on September 12, 2003.
Ali Bahrami,
Acting Manager, Transport Airplane Directorate, Aircraft Certification Service.

[FR Doc. 03-23828 Filed 9-18-03; 12:01 pm]

BILLING CODE 4910-13-U